FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission,Washington, DC 20573.

Non-Vessel Operating Common Carrier Ocean Transportation Intermediary Applicants

AJC Logistics, LLC dba Eagle Logistics Systems, 5188 Roswell Road, Atlanta, GA 30342.Officer: Christopher Swartz, Vice President, (Qualifying Individual).

Vin Worldwide Transport, LLC dba Vinship Line, 485 B Route 1, Iselin, NJ 08830. Officer: Martin J. Aranha, President, (Qualifying Individual).

M&M Cargo Line, Inc., 485-B Route 1, Iselin, NJ 08830. Officer: Martin J. Aranha, President, (Qualifying Individual).

Unlimited Freight Solutions Inc., 32 Via Costa Verdes, Rancho Palos Verdes, CA 90275.Officers: Ruth Chieng, Secretary, (Qualifying Individual), Wan-Ping W. Yu, CEO.

Atlantic Pacific Shipping, Inc., 58 Pyles Lane, New Castle, DE 19720. Officer: Daniel S. Cabellos, President, (Qualifying Individual).

Universe Express Inc., 39-06 Ackerman Drive, Fair Lawn, NJ 07410. Officers: Yecenia Blanco, Secretary, (Qualifying Individual), Eytan Shaya, CEO.

Columbia River Logistics Service Company, dba Colo Lines dba Colo Logistics, 30900 Launch Lane, Umatilla, OR 97882. Officer: Jeff Vandel, Vice President, (Qualifying Individual).

Non-Vessel Operating Common Carrier and Ocean Freight Forwarder Transportation Intermediary Applicants

Global Freight Company Inc., 6485 Shiloh Road, #B500, Alpharetta, GA 30005. Officer: Dmitri Taygankov, President, (Qualifying Individual).

Ioplus Logistics, LLC dba Plus Logistics, 10300 NW 19th Street, Miami, FL 33172. Officers: Carlos Perez, General Manager, (Qualifying Individual).

Barcarella Transportation Services, Inc., dba BTX Sea Freight, 731 Main Street, Monroe, CT 06468.Officer: Rosario Barcarella, Vice President, (Qualifying Individual).

Nautica Cargo Services Inc. dba Navinsa Line, 7911 NW 72nd Ave. 219B, Miami, FL 33166.Officer: Vivian Gonzalez, President, (Qualifying Individual).

Valcad Construction, LLC, 3211 W. Northwest Highway, #200, Dallas, TX 75220.Officer: Nild Ortiz, Vice President, (Qualifying Individual).

Ambyth Shipping Micronesia, Inc. dba Ambyth Logistics, Pacific Trading Bldg., Chalan Pale Arnold Road, Saipan, MP 96950. Officer: Andrew J. Miller, Treasurer, (Qualifying Individual).

Ambyth Shipping & Trading, Inc. dba Ambyth Logistics, 193 Rojas Street, Harmon Industrial Park, Tamuning, GU 96913. Officer: (Qualifying Individual).

Sinclair Communication Center LLC dba Shipping Made Easy, 87 Elm Street, Manchester, NH 03101. Officer: Luke Sinclair, Member, (Qualifying Individual).

Two Brothers, LLC, 2080 NW 79th Avenue, Miami, FL 33122. Officers: Jose L. Grinovero, Member Manager, (Qualifying Individual), Hector R. Squef, Member Manager.

Dulles World Cargo, Inc., 23480 Rock Haven Way, #110 Dulles, VA 20166. Officer:Michael R. Greene, President, (Qualifying Individual).

Nabu Trading, LLC, 1432 NW. 82 Avenue, Miami, FL 33126. Officers: Orlando Paz, Cargo Agent, (Qualifying Individual), Juan P. Luchau, President.

NGL Airfreight, LLC, 21061 S. Western Avenue, Torrance, CA 90501. Officer: William D. Brady, V. Pres. of Customs, (Qualifying Individual).

Ocean Freight Forwarder—Ocean Transportation Intermediary Applicants

Bremol, Inc. dba Molcan Freight Forwarding Services, 13501 SW. 16 Court, Davie, FL 33325.Officers: Molesa C. King, Vice President, (Qualifying Individual), Brenton J. King, President.

Cartrans International, LLC, 17707 NW. Miami Ct., Miami, FL 33169. Officer: Arthur Moroz, CEO, (Qualifying Individual).

Secure Shipping, Inc., 10400 Courthouse Road, #242, Spotsylvania, VA 22553. Officers: Stanley Egwuonwu, Manager, (Qualifying Individual), Christine A. Egwuonwu, Secretary.

T.C.H. Incorporated, 1415 E. University Drive, Phoenix, AZ 85034. Officers: David R. Coles, President, (Qualifying Individual), Thomas W. Heisler, Vice President.

Dated: October 24, 2008.
Karen V. Gregory,
Secretary.

[FR Doc. E8-25819 Filed 10-28-08; 8:45 am]

BILLING CODE 6730-01-P